DEPARTMENT OF TRANSPORTATION

Federal Aviation Administration

14 CFR Part 39

[Docket No. 2000-NE-09-AD; Amendment 39-11889; AD 2000-18-04]

RIN 2120-AA64

Airworthiness Directives; Aviointeriors S.p.A. Seat Model 312

AGENCY: Federal Aviation Administration, DOT.

ACTION: Final rule; request for comments.

SUMMARY: This amendment adopts a new airworthiness directive (AD) that applies to Aviointeriors S.p.A. (formerly ALVEN), Seat Model 312. This AD requires initial and repetitive inspections of the seat center crossmember for cracks, and if necessary, replacing the crossmember with a new crossmember. This amendment is prompted by reports of cracks in the crossmember that were found during normal maintenance. The FAA is issuing this AD to prevent the loss of the structural integrity of the seat due to cracks in the seat center crossmember.

DATES: Effective October 12, 2000. The incorporation by reference of certain publications listed in the rule is approved by the Director of the Federal Register as of October 12, 2000.

The FAA must receive any comments on this rule by November 27, 2000.

ADDRESSES: Submit comments to Docket number 2000-NE-09-AD in one of the following ways:

• Mail comments to the Federal Aviation Administration (FAA), Office of the Regional Counsel, New England Region, Attention: Rules Docket number 2000-NE-09-AD, 12 New England Executive Park, Burlington, MA 01803-5299. You may also send a request for a copy of the AD or regulatory evaluation from that address. If you want us to acknowledge receipt of your comments, you must include a self-addressed, stamped postcard on which the Docket Number is written. We will date-stamp your postcard and mail it back to you.

• E-mail comments to 9-ane-adcomment@faa.gov. Be sure to include Docket number 2000-NE-09-AD in the subject line.

You can get the service information referenced in this AD from Aviointeriors S.p.A., Via Appia Km. 66.4—04013 Latina, Italy; telephone: 39-0773-6891; fax: 39-0773-631546. You may examine the AD Docket (including any comments and service information) at the FAA, New England Region, Office of the Regional Counsel, 12 New England Executive Park, Burlington, MA, between 8:00 a.m. and 4:30 p.m., Monday through Friday, except Federal holidays. You may also examine the service information at the Office of the Federal Register, 800 North Capitol Street, NW, suite 700, Washington, DC.

FOR FURTHER INFORMATION CONTACT: Brian Murphy, Aerospace Engineer, Boston Aircraft Certification Office, FAA, Engine and Propeller Directorate, 12 New England Executive Park, Burlington, MA 01803-5299; telephone: 781-238-7739; fax: 781-238-7199.

SUPPLEMENTARY INFORMATION: The Ente Nazionale per l'Aviaazione Civile (ENAC), which is the airworthiness authority for Italy, recently notified the FAA that an unsafe condition may exist on the crossmembers of Aviointeriors S.p.A. (formerly ALVEN) model 312 seats. The ENAC has advised the FAA that cracks were found in three seat center crossmembers during routine maintenance.

Manufacturer's Service Information

Aviointeriors has issued alert service bulletin (ASB) No. 312/912-01, Revision 1, dated October 7, 1999, that specifies procedures for inspecting the center crossmember, part number (P/N) DM03437-1, of the seat for cracks and, if necessary, replacing the crossmember with a serviceable part. The ENAC classified this service bulletin as mandatory and issued AD 99-421 in order to assure the airworthiness of these seats in Italy.

Bilateral Airworthiness Agreement

This seat is manufactured in Italy, and is approved for use on airplanes that are type certificated for operation in the United States under the provisions of § 21.617 of the Federal Aviation Regulations (14 CFR 21.617) and the applicable bilateral airworthiness agreement. Under this bilateral airworthiness agreement, the ENAC has kept the FAA informed of the situation described above. The FAA has examined the findings of the ENAC, reviewed all available information, and determined that AD action is necessary for seats of this design that are used on airplanes that are certificated for operation in the United States.

Requirements of this AD

The FAA has identified an unsafe condition that is likely to exist or develop on other seats of this same design. This AD is being issued to prevent the loss of the structural integrity of the seat due to cracks in the seat center crossmember. This AD requires an initial inspection within 20 days or 80 hours time-in-service (TIS), whichever occurs first, after the effective date of this AD, repetitive inspections within 650 hours TIS after the last inspection, and if necessary, the replacement of the seat center crossmember with a new crossmember. These actions must to be done in accordance with the service bulletin described previously.

Immediate Adoption

Since a situation exists that requires the immediate adoption of this regulation, it is found that notice and opportunity for prior public comment are impracticable, and that good cause exists for making this amendment effective in less than 30 days.

Comments Invited

Although this AD is in the form of a final rule that involves requirements affecting flight safety and was not preceded by notice and an opportunity for public comment, the FAA invites you to submit any written relevant data, views, or arguments. Submit your comments as specified under the “ADDRESSES” caption. Be sure to include the Rules Docket number 2000-NE-09-AD in the communication. We specifically invite comments on the overall regulatory economic, environmental, and energy aspects of the rule that might suggest a need to modify it. We will file a report in the AD Docket that summarizes each FAA contact with the public that is related to the substantive part of this rule. The FAA is examining the writing style we currently use in regulatory documents, in response to the presidential memorandum of June 1, 1998. That memorandum requires federal agencies to communicate more clearly with the public. You can get more information about the presidential memorandum and the plain language initiative at http://www.plainlanguage.gov. We also specifically invite comments on the chart-type format used to publish the actions required by this AD. This format was developed in consultation with the Office of the Federal Register, and the FAA is considering using this format, when appropriate, for future AD's. We will consider all comments received by the closing date, and may amend the rule.

If you want the FAA to acknowledge receipt of your comments, send a self-addressed, stamped postcard on which the following statement is made: “Comments to Docket Number 2000-NE-09-AD.” We will date stamp the postcard and return it to you.

Regulatory Impact

This AD will not have a substantial direct effect on the States, on the relationship between the national Government and the States, or on the distribution of power and responsibilities among the various levels of government. Therefore, the FAA has determined that this AD does not have federalism implications under Executive Order 13132. Accordingly, the FAA has not consulted with state authorities before publication of this rule.

The FAA has determined that this regulation is an emergency regulation that must be issued immediately to correct an unsafe condition in aircraft, and is not a “significant regulatory action” under Executive Order 12866. Further, the FAA has determined that this AD involves an emergency regulation under DOT Regulatory Policies and Procedures (44 FR 11034, February 26, 1979). If a determination is made that this AD otherwise would be significant under DOT Regulatory Policies and Procedures, the FAA will prepare a final regulatory evaluation and place it in the AD Docket. You can get a copy of this evaluation, if one has been prepared, by sending a request to the FAA at the mailing address listed under the caption “ADDRESSES.” Your request must reference “AD Docket Number 2000-NE-09-AD.”

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new airworthiness directive:

Department of Transportation
Federal Aviation Administration (FAA)
Airworthiness Directive (AD) 2000-18-04
Docket No. 2000-NE-09-AD, Amendment 39-11889
Aviointeriors S.p.A.
Subject: Inspection of Seat Center Crossmember for Cracks
(a) Effective Date | October 12, 2000.
(b) Affected Documents | None.
(c) Applicability | Aviointeriors S.p.A. (formerly ALVEN) Model 312 Seats. These seats are used on, but are not limited to, Fokker 50 airplanes.
(d) Unsafe Condition | The FAA is issuing this AD to prevent the loss of the structural integrity of the seat due to cracks in the seat center crossmember.
(e) Compliance | Initial inspection within 20 days or 80 hours time-in-service (TIS), whichever occurs first after the effective date of this AD, unless already done, and repetitive inspections within 650 hours TIS after last inspection.
(f) Required Actions | (1) Inspect seat crossmember P/N DM03437-1 in accordance with Section 2. Inspection Procedure of Aviointeriors Alert Service Bulletin (ASB) 312/912-01, Revision 1, dated October 7, 1999. (2) If you find cracks, replace the crossmember with a new crossmember P/N DM03437-1 in accordance with Section 3 Crossmember Replacement Procedure, Step 3.1 through 3.9 of ASB 312/912-01, Revision 1, dated October 7, 1999.
(g) Other Provisions | (1) Alternative Methods of Compliance: (i) You may use an alternative method of complying or adjust the time you take to meet the requirements of this AD if your alternative provides an acceptable level of safety, and the Manager, Boston Aircraft Certification Office (ACO), approves your alternative. (ii) Submit your request for approval through an FAA Principal Maintenance Inspector, who may add comments and then send it to the Manager, Boston ACO. (iii) You can get information about the existence of already approved alternatives from the FAA, Boston ACO. (2) Modifications, Alterations, or Repairs: This AD applies to each seat identified in the applicability paragraph, even if it has been modified, altered, or repaired in the area subject to this AD. If that change in any way affects accomplishing the required actions, you must request FAA approval for an alternative method of compliance (AMOC). Your request should assess the effect of the change on the unsafe condition addressed by this AD. (3) Special Flight Permits: The FAA can issue you a special flight permit under 14 CFR 21.197 and 21.199 to operate your airplane to a location where you can comply with this AD.
(h) Incorporation by Reference | You must do the inspections and replacements in accordance with Aviointeriors ASB No 312/912-01, Revision 1, dated October 7, 1999. The Director of the Federal Register approved this incorporation by reference under 5 U.S.C. 552(a) and 1 CFR part 51. If you need a copy of the service bulletin, contact Aviointeriors S.p.A, Via Appia Km. 66.4-04013 Latina, Italy; telephone: 39-0773-6891; fax: 39-0773-631546. You may review a copy of the service bulletin at the FAA, New England Region, Office of the Regional Counsel, 12 New England Executive Park, Burlington, MA or at the Office of the Federal Register, 800 North Capitol Street, NW, suite 700, Washington, DC.
(i) Related Information | Ente Nazionale per L'Aviaazione Civile AD 99-421 has required these inspections and replacements in Italy.

Issued in Burlington, MA on August 30, 2000.
David A. Downey,
Assistant Manager, Engine and Propeller Directorate, Aircraft Certification Service.

[FR Doc. 00-23578 Filed 9-26-00; 8:45 am]

BILLING CODE 4910-13-S